DEPARTMENT OF THE INTERIOR

Bureau of Land Management

[LLNVW0000.L5110000.GN0000.LVEMF1402860.14X; MO #4500078994]

Notice of Availability of the Draft Environmental Impact Statement for the Proposed Coeur Rochester Mine Plan of Operations Amendment 10 and Closure Plan, Pershing County, NV

AGENCY: Bureau of Land Management, Interior.

ACTION: Notice of availability.

SUMMARY: In accordance with the National Environmental Policy Act of 1969, as amended, the Bureau of Land Management (BLM) has prepared a Draft Environmental Impact Statement (EIS) for the Coeur Rochester Mine Plan of Operations Amendment 10 and Closure Plan and by this notice is announcing the opening of the comment period.

DATES: To ensure comments will be considered, the BLM must receive written comments on the Coeur Rochester Mine Plan of Operations Amendment 10 and Closure Plan Draft EIS within 45 days following the date the Environmental Protection Agency publishes its Notice of Availability in the Federal Register. The BLM will announce future meetings or hearings and any other public involvement activities at least 15 days in advance through public notices, media releases, and/or mailings.

ADDRESSES: You may submit comments related to the Coeur Rochester Mine Plan of Operations Amendment 10 and Closure Plan Draft EIS by any of the following methods:

• Web site: http://on.doi.gov/1d5pIxR.

• Email: wfoweb@blm.gov. Include Coeur Rochester Mine POA10 DEIS Comments in the subject line.

• Fax: 775-623-1503.

• Mail: BLM Winnemucca District, Humboldt River Field Office, 5100 E. Winnemucca Blvd., Winnemucca, NV 89445.

Copies of the Coeur Rochester Mine Plan of Operations Amendment 10 and Closure Plan Draft EIS are available in the Winnemucca District Office at the above address.

FOR FURTHER INFORMATION CONTACT: Kathleen Rehberg, Project Lead, telephone 775-623-1500; address BLM Winnemucca District, Humboldt River Field Office, 5100 E. Winnemucca Blvd., Winnemucca, NV 89445; email krehberg@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant, Coeur Rochester, Inc. (CRI), has requested an expansion of their operations at the existing Coeur Rochester Mine, which is located approximately 18 miles northeast of Lovelock, Nevada, in the Humboldt Range, Pershing County. The mine is currently authorized up to a disturbance of 1,939 acres (approximately 187 acres of private land and 1,752 acres of public land), which was permitted under a series of Environmental Assessments (EA N26-86-002P, February 1986; EA NV-020-99-12, February 1999; EA NV-020-01-06, December 2000; EA NV-020-01-06, February 2002; EA NV-020-03-13, August 2003; DOI-BLM-NV-W010-2010-0010-EA, October 2010).

The Draft EIS analyzes the potential environmental impacts associated with the proposed changes to CRI's current operations presented under this Plan of Operations (Plan) modification, which includes disturbance to 2,170.1 acres, of which 1,939 acres are already approved for disturbance. A total of 254.5 acres of the new disturbance is proposed on public land, however, there will be a reduction of approved disturbance acres of 23.3 acres on private land.

The Draft EIS analyzes three alternatives: (1) The Proposed Action, (2) Permanent Management of Potentially Acid Generating (PAG) Material Outside of the Rochester Pit Alternative, and (3) the No Action Alternative. If selected by the BLM, the Proposed Action would include a change to the Plan boundary designed to include existing claims and newly acquired private lands within the boundary. However, all of the proposed disturbance to public land would be within the existing approved Plan boundary. The proposal includes the following:

• An approximately 67-acre expansion to the existing Stage IV Heap Leach Pad (HLP);

• An increase of the allowable maximum Stage IV HLP stacking height from 330 feet to 400 feet;

• Construction of a 124-acre Stage V HLP with associated ponds and tank;

• Relocation of a portion of the American Canyon public access road and establishment of an associated right-of-way (ROW);

• Relocation of a portion of the paved Rochester main access road ROW;

• Realignment of the Stage IV haul road and construction of secondary access roads;

• Relocation of existing power lines consistent with the proposed ROW realignments and HLP construction;

• Relocation of the electrical building, core shed, and production well PW-2a;

• Excavation of new borrow areas and construction of one new growth medium stockpile;

• Installation of the Stage IV HLP conveyor system, associated load out points, ore stockpiles, maintenance road, and utility corridor, including process solutions and fresh water supply pipelines; and

• Changes to closure activities for existing facilities including: altering the open pit safety berm sizes; HLP interim fluid management plans; HLP cover designs; the installation of evaporation cells; and long-term draindown management.

Under the the Permanent Management of PAG Material Outside of the Rochester Pit Alternative, the proposed activities listed in the Proposed Action would be the same, with the exception of the permanent location of the PAG material. In this alternative the material would be permanently relocated outside of the existing pit.

Under the No-Action Alternative, the BLM would not approve the proposed Plan modification and there would be no expansion. CRI would continue mining activities under their previously approved plan of operation.

Three other alternatives were considered, then eliminated: (1) Pit Backfill Elevation Alternative, (2) Alternate Location for Stage V HLP Alternative, and (3) Close a Portion of American Canyon Road to Public Access Alternative.

A Notice of Intent to Prepare an EIS for the Proposed Coeur Rochester Mine Expansion was published in the Federal Register on June 27, 2014 (79 FR 36554). Eleven comments were received during a 30-day scoping period. Information accepted during project scoping was compiled to develop issue statements, which are listed in the Draft EIS. The following issues of environmental, social, and economic concern were identified: Air quality from mine emissions (including mercury and greenhouse gases), climate change, geochemical mining impacts, baseline data, alternatives development, monitoring, cumulative impacts assessment, and potential impacts on vegetation, riparian resources, dispersed recreation, visual resources, water quality and quantity, wild horses and burros, and wildlife and special status species.

The BLM analyzed a combination of proposed environmental measures and possible mitigation to eliminate or minimize any impacts associated with the proposed action. These included the potential for identifying opportunities to apply mitigation hierarchy strategies for on-site, regional, and compensatory mitigation appropriate to the size of the proposal, and management actions to achieve resource objectives. The BLM will use NEPA public participation requirements to assist the agency in satisfying the public involvement requirements under the National Historic Preservation Act (NHPA) (54 U.S.C. 306108) pursuant to 36 CFR 800.2(d)(3). The information about historic and cultural resources within the area potentially affected by the proposed Coeur Rochester Mine Plan of Operations Amendment 10 will assist the BLM in identifying and evaluating impacts to such resources in the context of both NEPA and the NHPA.

The BLM continues to consult with Indian tribes on a government-to-government basis in accordance with Executive Order 13175 and other policies. Tribal concerns, including impacts to Indian trust assets and potential impacts to cultural resources, will be given due consideration. Federal, State, and local agencies, along with tribes and other stakeholders that may be interested or affected are invited to comment on the proposal that the BLM is evaluating.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10

James W. Schroeder,
Field Manager, Humboldt River Field Office.

[FR Doc. 2015-20582 Filed 8-20-15; 8:45 am]

BILLING CODE 4310-HC-P